DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of August 2, 2010 through August 6, 2010.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
72,580 | Criterion Catalysts & Technologies L.P. | Belmont, WV | October 13, 2008.
73,207 | O'Neal Steel, Inc., Leased Workers from Advantage Staffing | Greensboro, NC | December 31, 2008.
73,566 | Precision Etchings and Findings, Inc. | Warwick, RI | February 24, 2009.
73,892 | Design Ware, American Greetings, Leased Workers Advanced Employment | Kalamazoo, MI | April 5, 2009.
74,179 | Thakar Aluminum Corporation | Sandusky, OH | May 27, 2009.

The following certifications have been issued. The requirements of Section 222(a)(2)(B) (shift in production or services) of the Trade Act have been met.

TA-W No. | Subject firm | Location | Impact date
72,954 | RBP Chemical Technology, Inc. | Milwaukee, WI | November 24, 2008.
73,083 | Viewpointe Archive Services, LLC, On-Site Leased Workers from Atrium Staffing | Parsippany, NJ | December 11, 2008.
73,124 | Suite Simplicity, LLC, Formerly Deco Lav, Inc | Greensboro, NC | December 17, 2008.
73,309 | Ceratizit USA, Inc., zCrtsyixit S.A., On-Site Leased Workers from The Callos Company and Adecco | Derry, PA | January 13, 2009.
73,368 | NCI Group, Inc., DBA A&S Building Systems; Leased Workers of Daniel Group | Rocky Mount, NC | January 25, 2009.
73,483 | Insulet Corporation, Leased Workers from John Galt Staffing, GCR Professional Services, etc | Bedford, MA | February 8, 2009.
73,556 | Flextronics America, LLC, Flextronics International USA, On-Site Leased Workers form Aerotek | Creedmoor, NC | February 23, 2009.
73,606 | Leased Workers From Teksystems, Ajilon, and Pomeroy, Working On-Site at Target Corporation, North Campus Rollout Room | Brooklyn Park, MN | March 1, 2009.
73,734 | Purchasingnet, Inc., Research & Development, and General & Administrative, ESW, etc | Red Bank, NJ | March 16, 2009.
73,891 | Emerson Process Management Regulator Technologies, Inc., Emerson Electric Company | McKinney, TX | April 7, 2009.
73,975 | CareFusion 209, Incorporated, Leased Workers from Aerotek and Adecco | Middleton, WI | April 6, 2009.
73,986 | AT&T Services, Inc., Information Technology | Bothell, WA | April 19, 2009.
73,991 | JBL Incorporated, Harman International Industries, Leased Workers Select Staffing, etc | Northridge, CA | June 25, 2010.
73,992 | BP Solar International, Inc., Subsidiary of BP America International, Inc., Leased Workers of Aerotek, etc | Frederick, MD | April 23, 2009.
74,038 | Tyden Brooks Security Products Group, On-Site Leased Workers from ERG Staffing Service & Express Employment, etc | Phillipsburg, NJ | April 30, 2009.
74,124 | Precision Wire Components, Leased Workers From Aerotek | Tualatin, OR | April 23, 2009.
74,170 | Con-way Enterprise Services, Accounting, Fixed Assets and IT Infrastructure Divisions; etc | Portland, OR | May 28, 2009.
74,172 | Toshiba America Consumer Products, Inc., Tennessee Operations Product Return Center (“PRC”) | Lebanon, TN | May 28, 2009.
74,187 | Fairchild Semiconductor, Leased Workers from NStar Global Services | Mountaintop, PA | June 3, 2009.
74,209 | Citicorp Credit Services, Inc. (USA), Risk and Fraud Operations Divisions, Citigroup, Inc | Tucson, AZ | June 1, 2009.
74,292 | Precision Dynamics Corporation | San Fernando, CA | June 14, 2009.
74,299 | Anthem Blue Cross and Blue Shield of Maine, Wellpoint, Inc., Leased Workers Iconma, Indecon, Pinnacle, etc | South Portland, ME | June 24, 2009.
74,382 | J.P. Morgan Chase, Troy Telephone Banking | Troy, MI | July 12, 2009.
74,397 | Progress Software Corporation, Off-Site Workers Reporting to Bedford, Massachusetts from Arizona, etc | Bedford, MA | July 12, 2009.
74,398 | Progress Software Corporation | El Segundo, CA | July 12, 2009.
74,399 | Progress Software Corporation | San Francisco, CA | July 12, 2009.
74,400 | Progress Software Corporation | Nashua, NH | July 12, 2009.
74,401 | Savvion, A Progress Software Company | Santa Clara, CA | July 12, 2009.
74,402 | DataDirect Technologies | Los Gatos, CA | July 12, 2009.
74,403 | Progress Software Corporation | Oak Brook, IL | July 12, 2009.
74,404 | Progress Software Corporation | Largo, MD | July 12, 2009.
74,405 | Progress Software Corporation | New York, NY | July 12, 2009.
74,406 | DataDirect Technologies Headquarters | Morrisville, NC | July 12, 2009.
74,407 | Progress Software Corporation | Austin, TX | July 12, 2009.
74,408 | DataDirect Technologies | Sugar Land, TX | July 12, 2009.
74,409 | DataDirect Technologies | Fairfax, VA | July 12, 2009.
74,410 | DataDirect Technologies | Norfolk, VA | July 12, 2009.
74,431 | Evonik Cyro, LLC, Evonik Industries, On-Site Leased Workers from Manpower | Sanford, ME | July 22, 2009.

The following certifications have been issued. The requirements of Section 222(c) (supplier to a firm whose workers are certified eligible to apply for TAA) of the Trade Act have been met.

TA-W No. | Subject firm | Location | Impact date
72,988 | Matcor Automotive, Inc., On-Site Leased Workers from GSN Staffing, Ameristaff & Express, etc. | Moberly, MO | November 24, 2008.
73,378 | General Fasteners Company | Richmond, IN | January 27, 2009.
73,689 | General Motors Component Holdings, LLC, General Motors Company; Delphi Corporation, Electronics & Safety Division | Kokomo, IN | February 15, 2010.
74,130 | Eagle Express Trucking, Inc. | Saint Marys, PA | May 20, 2009.
74,205 | River Bend Industries, LLC, Leased Workers Firststaff | Fort Smith, AR | May 10, 2009.

The following certifications have been issued. The requirements of Section 222(c) (downstream producer for a firm whose workers are certified eligible to apply for TAA) of the Trade Act have been met.

TA-W No. | Subject firm | Location | Impact date
73,871 | Weyerhaeuser Company, iLevel Sales Service Center | Sacramento, CA | April 6, 2009.

Negative Determinations for Worker Adjustment Assistance

In the following cases, the investigation revealed that the eligibility criteria for worker adjustment assistance have not been met for the reasons specified.

The investigation revealed that the criteria under paragraphs (a)(2)(A)(i) (decline in sales or production, or both) and (a)(2)(B) (shift in production or services to a foreign country) of section 222 have not been met.

TA-W No. | Subject firm | Location | Impact date
73,683 | Contour Aerospace Corporation, a division of Vought Aircraft Industries | Everett, WA
74,173 | Liberty Healthcare Corporation | Bala Cynwyd, PA

The investigation revealed that the criteria under paragraphs(a)(2)(A) (increased imports) and (a)(2)(B) (shift in production or services to a foreign country) of section 222 have not been met.

TA-W No. | Subject firm | Location | Impact date
72,122 | The Dial Corporation | St. Louis, MO
72,762 | Upper Connecticut Valley Hospital Association, Inc. | Colebrook, NH
72,949 | Western Digital Technologies, Inc., Corporate Headquarters/Hard Drive Development Division | Lake Forest, CA
73,225 | Custom Hoists, Inc., Standex International | Hayesville, OH
73,579 | Consolidated Glass and Mirror Corp., Guardian Industries Corp. | Galax, VA
73,629 | Plycraft Industries, Inc. | Huntington Beach, CA
73,655 | Lamson Pipe Company | Erie, PA
73,702 | Komatsu Latin America Corporation, Komatsu America Corporation | Miami, FL
74,297 | Aero-Metric, Inc. | Seattle, WA
74,355 | Dish Network Service L.L.C., McKeesport Dispatch-DNS | McKeesport, PA

Determinations Terminating Investigations of Petitions for Worker Adjustment Assistance

After notice of the petitions was published in the Federal Register and on the Department's Web site, as required by Section 221 of the Act (19 U.S.C. 2271), the Department initiated investigations of these petitions.

The following determinations terminating investigations were issued because the petitioner has requested that the petition be withdrawn.

TA-W No. | Subject firm | Location | Impact date
73,735 | Product Action | Dayton, OH
74,376 | Ellwood Crankshaft & Machine Company | Hermitage, PA
74,421 | Fairfield Chair Company, Plant #1 | Lenoir, NC
74,440 | Hagemeyer North America, Sonepar USA | Charleston, SC

The following determinations terminating investigations were issued in cases where these petitions were not filed in accordance with the requirements of 29 CFR 90.11. Every petition filed by workers must be signed by at least three individuals of the petitioning worker group. Petitioners separated more than one year prior to the date of the petition cannot be covered under a certification of a petition under Section 223(b), and therefore, may not be part of a petitioning worker group. For one or more of these reasons, these petitions were deemed invalid.

TA-W No. | Subject firm | Location | Impact date
73,890 | Pioneer Press, Ltd | Kaukauna, WI

The following determinations terminating investigations were issued because the petitioning groups of workers are covered by active certifications. Consequently, further investigation in these cases would serve no purpose since the petitioning group of workers cannot be covered by more than one certification at a time.

TA-W No. | Subject firm | Location | Impact date
74,153 | Freescale Semiconductor, Inc., Quality Division, Leased Workers from ManPower | Austin, TX
74,231 | Swets Information Service, Finance Department | Runnemede, NJ
74,282 | Diebold Incorporated | North Canton, OH

I hereby certify that the aforementioned determinations were issued during the period of August 2, 2010 through August 6, 2010. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Date: August 11, 2010.
Michael W. Jaffe,
Certifying Officer, Division of Trade Adjustment Assistance.

[FR Doc. 2010-20790 Filed 8-20-10; 8:45 am]

BILLING CODE P